SMALL BUSINESS ADMINISTRATION

Public Federal Regulatory Enforcement Fairness Hearing; Region V Regulatory Fairness Board

The Small Business Administration Region V Regulatory Fairness Board and the SBA Office of the National Ombudsman will hold a public hearing on Thursday, June 12, 2003, at 1 p.m. at the Minnesota State Capitol, Room 107, 75 Reverend Martin Luther King Jr. Boulevard, St. Paul, Minnesota 55155, to receive comments and testimony from small business owners, small government entities, and small non-profit organizations concerning regulatory enforcement and compliance actions taken by Federal agencies.

Anyone wishing to attend or to make a presentation must contact Ed Daum in writing or by fax, in order to be put on the agenda. Ed Daum, District Director, U.S. Small Business Administration, Minnesota District Office, 100 North 6th Street, Butler Square, Suite 210-C, Minneapolis, MN 55403, phone (612) 370-2306, fax (612) 370-2303, e-mail ed.daum@sba.gov.

For more information, see our Web site at http://www.sba.gov/ombudsman.

Dated: May 27, 2003.
Michael L. Barrera,
National Ombudsman.

[FR Doc. 03-13873 Filed 6-2-03; 8:45 am]

BILLING CODE 8025-01-P